DEPARTMENT OF JUSTICE

Notice of Lodging of Consent Decree Under the Comprehensive Environmental Response, Compensation and Liability Act, 42 U.S.C. 9606 et seq.

Notice is hereby given that on November 10, 2008, two proposed consent decrees in United States of America and the State of Missouri v. Blue Tee Corp. et al., Civil Action No. 08-5114, were lodged with the United States District Court for the Western District of Missouri.

The Complaint, filed by the Plaintiffs alleges that the Defendants are liable under Sections 106 and 107 of the Comprehensive Environmental Response, Compensation, and Liability Act (“CERCLA”), 42 U.S.C. 9606 et seq., for the performance of response actions and payment of response costs incurred by the United States and the State of Missouri at the Oronogo/Duenweg Mining Belt Superfund Site in Jasper County, Missouri (hereinafter “the Site”).

The proposed Consent Decrees settle the Plaintiffs' claims against all the Defendants. In the Consent Decrees, the Defendants have agreed to perform the response actions at the Site which were selected by the Record of Decision for the Site issued by the United States Environmental Protection Agency on September 30, 2004. These response actions are estimated to cost over $37.5 million.

Pursuant to 42 U.S.C. 9622(d)(2) and 28 CFR 50.7, for thirty (30) days after the date of this publication, the Department of Justice will receive comments relating to the Consent Decrees. Comments should be addressed to the Assistant Attorney General, Environment and Natural Resources Division, and either e-mailed to pubcomment-ees.enrd@usdoj.gov or mailed to P.O. Box 7611, U.S. Department of Justice, Washington, DC 20044-7611. In either case, the comments should refer to United States of America and The State of Missouri v. Blue Tee Corp. et al., Civil Action No. 08-5114 (W.D. Mo.), Ref. No. 90-11-2-06280/3.

During the comment period, the Consent Decrees may be examined on the following Department of Justice Web site: http://www.usdoj.gov/enrd/Consent_Decrees.html. A copy of the Consent Decrees may also be examined at the Office of the United States Attorney, Western District of Missouri, Charles Evans Whittaker Courthouse, 400 East Ninth Street, Kansas City, Missouri 64106. Copies of the Consent Decrees may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $94 (25 cents per page reproduction cost) payable to the United States Treasury or, if by e-mail or fax, forward a check in that amount to the Consent Decree Library at the stated address.

Maureen Katz,
Assistant Section Chief, Environmental Enforcement Section, Environment and Natural Resources.

[FR Doc. E8-27152 Filed 11-14-08; 8:45 am]

BILLING CODE 4410-15-P